FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 2, 2002.

A. Federal Reserve Bank of Minneapolis (Julie Stackhouse, Vice President) 90 Hennepin Avenue, Minneapolis, Minnesota 55480-0291:

1. David A. Beito 2002 GST Trust A, Kathryn A. Beito 2002 GST Trust A, Laura E. Beito 2002 GST Trust A, David A. Beito 2002 GST Trust B, Kathryn A. Beito 2002 GST Trust B, Laura E. Beito 2002 GST Trust B, and David A. Beito, as trustee of these trusts, a group acting in concert, all of Thief River Falls, Minnesota; to acquire voting shares of GATO Holdings, Inc., Thief River Falls, Minnesota, and thereby indirectly acquire voting shares of Northern State Bank of Thief River Falls, Thief River Falls, Minnesota.

2. Patrick A. Wick, Turtle Lake, Wisconsin; to acquire voting shares of Turtle Bancshares, Inc., Turtle Lake, Wisconsin, and thereby indirectly acquire voting shares of Bank of Turtle Lake, Turtle Lake, Wisconsin.

B. Federal Reserve Bank of Kansas City (Susan Zubradt, Assistant Vice President) 925 Grand Avenue, Kansas City, Missouri 64198-0001:

1. Central of Kansas, LP and Edward C. Rolfs and Thomas Rolfs as co-Trustees of CKI Management Trust, dated January 1, 2003, all of Junction City, Kansas; to acquire voting shares of Central of Kansas, Inc., Junction City, Kansas, and thereby indirectly acquire voting shares of Central National Bank, Junction City, Kansas.

Board of Governors of the Federal Reserve System, November 12, 2002.
Robert deV. Frierson,
Deputy Secretary of the Board.

[FR Doc. 02-29114 Filed 11-15-02; 8:45 am]

BILLING CODE 6210-01-S